DEPARTMENT OF TRANSPORTATION

Federal Aviation Administration

14 CFR Part 39

[Docket No. FAA-2008-0556; Directorate Identifier 2007-NM-028-AD; Amendment 39-16246; AD 2010-07-02]

RIN 2120-AA64

Airworthiness Directives; Various Aircraft Equipped With Honeywell Primus II RNZ-850( )/-851( ) Integrated Navigation Units

AGENCY: Federal Aviation Administration (FAA), Department of Transportation (DOT).

ACTION: Final rule.

SUMMARY: The FAA is superseding an existing airworthiness directive (AD) that applies to certain Honeywell Primus II RNZ-850( )/-851( ) integrated navigation units (INUs). As one alternative for compliance, the existing AD provides for a one-time inspection to determine whether a certain modification has been installed on the Honeywell Primus II NV-850 navigation receiver module (NRM), which is part of the INU. In lieu of accomplishing this inspection, and for aircraft found to have an affected NRM, that AD provides for revising the aircraft flight manual to include new limitations for instrument landing system approaches. That AD also requires an inspection to determine whether certain other modifications have been done on the NRM; and doing related investigative, corrective, and other specified actions, as applicable; as well as further modifications to address additional anomalies. This AD extends the compliance time for a certain inspection and associated actions. This AD also revises the applicability to include additional affected INUs. This AD results from reports indicating that erroneous localizer and glideslope indications have occurred on certain aircraft equipped with the subject INUs. We are issuing this AD to ensure that the flightcrew has accurate localizer and glideslope deviation indications. An erroneous localizer or glideslope deviation indication could lead to the aircraft making an approach off the localizer, which could result in impact with an obstacle or terrain.

DATES: This AD becomes effective May 3, 2010.

The Director of the Federal Register approved the incorporation by reference of certain publications listed in the AD as of May 3, 2010.

On December 1, 2006 (71 FR 62907, October 27, 2006), the Director of the Federal Register approved the incorporation by reference of Honeywell Alert Service Bulletin 7510100-34-A0035, dated July 11, 2003; and Honeywell Service Bulletin 7510100-34-0037, dated July 8, 2004.

ADDRESSES: For service information identified in this AD, contact Honeywell Aerospace, Technical Publications and Distribution, M/S 2101-201, P.O. Box 52170, Phoenix, Arizona 85072-2170; telephone 602-365-5535; fax 602-365-5577; Internet http://www.honeywell.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Daniel Bui, Aerospace Engineer, Systems and Equipment Branch, ANM-130L, FAA, Los Angeles Aircraft Certification Office, 3960 Paramount Boulevard, Lakewood, California 90712-4137; telephone (562) 627-5339; fax (562) 627-5210.

SUPPLEMENTARY INFORMATION:

Discussion

The FAA issued a notice of proposed rulemaking (NPRM) to amend 14 CFR part 39 to include an AD that supersedes AD 2006-22-05, Amendment 39-14802 (71 FR 62907, October 27, 2006). The existing AD applies to various aircraft equipped with certain Honeywell Primus II RNZ-850( )/-851( ) integrated navigation units (INUs). That NPRM was published in the Federal Register on May 19, 2008 (73 FR 28751). That NPRM proposed to continue to provide, as one alternative for compliance, a one-time inspection to determine whether a certain modification has been installed on the Honeywell Primus II NV-850 navigation receiver module (NRM), which is part of the INU. In lieu of accomplishing this inspection, and for aircraft found to have an affected NRM, that NPRM proposed to continue to provide for revising the aircraft flight manual to include new limitations for instrument landing system approaches. That NPRM proposed to continue to require an inspection to determine whether certain other modifications have been done on the NRM; and doing related investigative, corrective, and other specified actions, as applicable; as well as further modifications to address additional anomalies. That NPRM also proposed to extend the compliance time for a certain inspection and associated actions and to revise the applicability to include additional affected INUs.

Comments

We provided the public the opportunity to participate in the development of this AD. We have considered the comments that have been received on the NPRM.

Request for Credit for Actions Performed in Compliance With Previous Service Information

Two commenters, ExpressJet Airlines and Honeywell, request that credit be given for actions performed in compliance with previous service information.

ExpressJet Airlines states that paragraph (l) of the NPRM calls for an inspection on any INU that is not identified in Table 2 of the NPRM. However, the NPRM does not take into account the units which have already been driven to Mod T status by Honeywell Service Bulletin 7510100-34-0037, dated July 8, 2004. ExpressJet requests that compliance with Honeywell Service Bulletin 7510100-34-0037 be considered as an alternative to the inspections required in paragraph (l) of the NPRM.

Honeywell also commented on the same issue. Honeywell states that it is concerned that many airplanes have been inspected and verified to be compliant with AD 2006-22-05. Honeywell asks the FAA to clarify whether the intent of the NPRM was to require that all affected operators re-inspect their airplanes. Honeywell also asks if the FAA can make a note under the compliance section to advise operators who actually complied with AD 2006-22-05 and verified their radios have modification AS and the new part number installed that they were already compliant with the new AD.

We agree to provide clarification for both ExpressJet Airlines' and Honeywell's comments. Paragraph (l) of this AD applies only to any INUs that are not listed in Table 2 of this AD (which is the same list as Table 1 of AD 2006-22-05). In addition, if operators have previously inspected INUs that are not listed in Table 2 and have accomplished the applicable actions specified in paragraph (l) of this AD, then those operators are already in compliance with paragraph (l) of this AD. According to paragraph (e) of this AD, the actions are required within the specified compliance time, unless already accomplished. Honeywell Service Bulletin 7510100-34-0037 only addresses the localizer fix. However, this AD requires that the glide slope be fixed in addition to the localizer. We will not consider compliance with Honeywell Service Bulletin 7510100-34-0037 as an alternative to the inspections required in paragraph (l) of the NPRM. No changes have been made to the final rule.

Request To Remove Reference to Specific Revision of Service Information

Honeywell requests that the FAA remove the reference to Revision 1, dated January 21, 2003, of the Honeywell Technical Newsletter (TNL) A23-3850-001 and simply reference the “current revision.” The TNL is currently at Revision 6. Based on the release of this new AD, Honeywell states that it plans to update the TNL with current information and clarify how to interpret the AD. Honeywell states that it cannot release the update until the new AD is released.

We disagree with Honeywell's request to refer to the “current revision” of the TNL. The NPRM did not require the Honeywell TNL, but did require Honeywell Alert Service Bulletin 7510100-34-A0035, dated July 11, 2003; and Honeywell Service Bulletin 7510100-34-0037, dated July 8, 2004; as the appropriate sources of service information to accomplish the required actions in this AD. Honeywell provided the TNL as a tool to communicate with its customers regarding this technical issue. We included the TNL in Note 3 of the NPRM for reference only. To avoid confusion, we have removed Note 3 of the NPRM, which referred to this TNL.

Request To Revise Paragraph (j) of the NPRM

Honeywell recommends wording changes to paragraph (j) of the NPRM to remove the sentence “If Mod T is installed, no further action is required by this paragraph.”

We agree to remove the sentence “If Mod T is installed, no further action is required by this paragraph” from paragraph (j) of the NPRM. Although Honeywell provides no justification for this wording change, we agree that making this change provides further clarification. Doing Mod T repairs only the localizer in accordance with Honeywell Service Bulletin 7510100-34-0037, dated July 8, 2004. However, the intent of this AD is to require that the glide slope and the localizer be serviced. Doing Mod T repairs the localizer in accordance with Honeywell Service Bulletin 7510100-34-0037, dated July 8, 2004. The glide slope is addressed by accomplishing the actions in Honeywell Alert Service Bulletin 7510100-34-A0034, dated February 28, 2003. Honeywell Alert Service Bulletin 7510100-34-A0035, dated July 11, 2003, does not address the localizer; it provides instructions for changing the part number after the glide slope is repaired. The glide slope and the localizer repairs are accomplished independent from each other in different Honeywell service bulletins.

Therefore, we have revised paragraph (j) of this AD by adding the text “* * * (which relates to the glide slope fix) * * *” to the sentence that begins “If Mod L, N, P, or R is installed * * *” and adding “if Mod T is not installed (which relates to the localizer fix), within 30 months after December 1, 2006, do all applicable related investigative, corrective, and other specified actions in accordance with the Accomplishment Instructions * * *” in that same sentence (before “Honeywell Service Bulletin 7510100-34-0037, dated July 8, 2004”). We made this change to clarify that Honeywell Service Bulletin 7510100-34-0037, dated July 8, 2004, addresses the localizer fix. This change does not increase the scope of this AD.

Request To Include Additional Service Information

Honeywell requests that we add Honeywell Alert Service Bulletin 7510134-34-A0017, dated July 11, 2003, to Table 1 in the NPRM.

We agree to include Honeywell Alert Service Bulletin 7510134-34-A0017, dated July 11, 2003, in Table 1 of this final rule to maintain consistency because the other service bulletins included in Table 1 of this AD were issued in pairs. Honeywell Alert Service Bulletin 7510100-34-A0034, dated February 28, 2003, was paired with Honeywell Alert Service Bulletin 7510134-34-A0016, Revision 001, dated March 4, 2003. Honeywell Service Bulletin 7510100-34-0037, dated July 8, 2004, was paired with Honeywell Service Bulletin 7510134-34-0018, dated July 8, 2004. Adding Honeywell Alert Service Bulletin 7510134-A0017, does not change any requirements of this AD, because Honeywell Alert Service Bulletin 7510134-34-A0017 is a prerequisite to Honeywell Alert Service Bulletin 7510100-34-A0035, dated July 11, 2003, and Honeywell Alert Service Bulletin 7510100-34-A0035 refers to Honeywell Alert Service Bulletin 7510134-34-A0017.

We contacted Honeywell for more information about the technical content of Honeywell Alert Service Bulletin 7510134-34-A0017, dated July 11, 2003. Honeywell Alert Service Bulletin 7510100-34-A0035, dated July 11, 2003, references Honeywell Alert Service Bulletin 7510134-34-A0017, dated July 11, 2003, as a source of service information on the new part numbers assigned after performing Honeywell Alert Service Bulletin 7510100-34-A0034, dated February 28, 2003. We have added Honeywell Alert Service Bulletin 7510134-34-A0017, dated July 11, 2003, to Table 1 of this AD. This does not increase the financial burden on operators, nor does it increase the scope of the AD.

Request To Add Part Numbers

Honeywell requests that we revise paragraph (l) of the NPRM to list part numbers 7510134-611, -631, -701, and -731; which are parts of the Honeywell Primus II RNZ-850( )/-851( ) INU after modification; to the inspection to determine whether Mod L, N, P, R, or T is installed.

We agree to provide clarification. We have revised paragraphs (l), (l)(1), (l)(2), and (l)(3) of this AD to specify the NRM part numbers 7510134-611, -631, -701, and -731 instead of the modification level. Paragraphs (l)(1) and (l)(2) of this AD correctly specify which combination of part number and modification level meets the technical requirements of the modification. We have determined that these changes will neither increase the economic burden on any operator nor increase the scope of the AD.

Explanation of Changes to This AD

We have changed the product identification line in the body of this AD to specify the design approval holder of the affected appliance rather than “various aircraft.”

Conclusion

We have carefully reviewed the available data, including the comments that have been received, and determined that air safety and the public interest require adopting the AD with the changes described previously. We have determined that these changes will neither increase the economic burden on any operator nor increase the scope of the AD.

Explanation of Change to Costs of Compliance

After the NPRM was issued, we reviewed the figures we have used over the past several years to calculate AD costs to operators. To account for various inflationary costs in the airline industry, we find it necessary to increase the labor rate used in these calculations from $80 per work hour to $85 per work hour. The cost impact information, below, reflects this increase in the specified hourly labor rate.

Costs of Compliance

There are about 3,063 aircraft of the affected design in the worldwide fleet. The following table provides the estimated costs for U.S. operators to comply with this AD. The manufacturer states that it will supply required parts to existing customers at no cost.

Estimated Costs
Action | Work hours | Average labor rate per hour | Parts | Cost per aircraft | Number of U.S.-registered aircraft | Fleet cost
Inspection for NRM modification level | 1 | $85 | $0 | $85 | Up to 1,500 | Up to $127,500.
AFM revision | 1 | 85 | 0 | 85 | Up to 1,500 | Up to 127,500.
Modification (to Mod T configuration) | 1 | 85 | 0 | 85 | Up to 1,500 | Up to 127,500.

The cost impact figures discussed above are based on assumptions that no operator has yet accomplished any of the proposed actions specified in this final rule, and that no operator would accomplish those actions in the future if this AD were not adopted. We have been advised, however, that the actions have already been done on some affected airplanes. Therefore, the future economic cost impact of this rule on U.S. operators is expected to be less than the cost impact figures indicated above.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14802 (71 FR 62907, October 27, 2006) and by adding the following new airworthiness directive (AD):

2010-07-02 Honeywell, Inc.: Amendment 39-16246. Docket No. FAA-2008-0556; Directorate Identifier 2007-NM-028-AD.

Effective Date

(a) This AD becomes effective May 3, 2010.

Affected ADs

(b) This AD supersedes AD 2006-22-05, Amendment 39-14802.

Applicability

(c) This AD applies to various aircraft, certificated in any category, equipped with any Honeywell Primus II RNZ-850( )/-851( ) integrated navigation units (INUs) identified in a service bulletin identified in Table 1 of this AD. The aircraft include, but are not limited to, BAE Systems (Operations) Limited (Jetstream) Model 4101 airplanes; Bombardier Model BD-700-1A10 airplanes; Bombardier Model CL-215-6B11 (CL-415 variant) airplanes; Cessna Model 560, 560XL, and 650 airplanes; Dassault-Aviation Model Mystere-Falcon 50 airplanes; 328 Support Services GmbH (Dornier) Model 328-100 and -300 airplanes; Empresa Brasileira de Aeronautica S.A. (EMBRAER) Model EMB-135 airplanes and Model EMB-145, -145ER, -145MR, -145LR, -145XR, -145MP, and -145EP airplanes; Learjet Model 45 airplanes; Hawker Beechcraft Corporation Model Hawker 800XP and Hawker 1000 airplanes; and Sikorsky Model S-76A, S-76B, and S-76C aircraft.

Table 1—Service Bulletins Affected by This AD
INUs listed in Honeywell— | Revision— | Dated—
(1) Alert Service Bulletin 7510134-34-A0016 | 001 | March 4, 2003.
(2) Alert Service Bulletin 7510134-34-A0017 | Original | July 11, 2003.
(3) Service Bulletin 7510134-34-0018 | Original | July 8, 2004.
(4) Alert Service Bulletin 7510100-34-A0034 | Original | February 28, 2003.
(5) Alert Service Bulletin 7510100-34-A0035 | Original | July 11, 2003.
(6) Service Bulletin 7510100-34-0037 | Original | July 8, 2004.

Note 1: This AD applies to Honeywell Primus II RNZ-850( )/-851( ) INUs installed on any aircraft, regardless of whether the aircraft has been otherwise modified, altered, or repaired in the area subject to the requirements of this AD. For aircraft that have been modified, altered, or repaired so that the performance of the requirements of this AD is affected, the owner/operator must request approval for an alternative method of compliance in accordance with paragraph (o) of this AD. The request should include an assessment of the effect of the modification, alteration, or repair on the unsafe condition addressed by this AD; and, if the unsafe condition has not been eliminated, the request should include specific proposed actions to address it.

Unsafe Condition

(d) This AD results from reports indicating that erroneous localizer and glideslope indications have occurred on certain aircraft equipped with the subject INUs. We are issuing this AD to ensure that the flightcrew has accurate localizer and glideslope deviation indications. An erroneous localizer or glideslope deviation indication could lead to the aircraft making an approach off the localizer, which could result in impact with an obstacle or terrain.

Compliance

(e) You are responsible for having the actions required by this AD performed within the compliance times specified, unless the actions have already been done.

Restatement of Certain Requirements of AD 2006-22-05

Compliance Time for Action

(f) For any INU identified in Table 2 of this AD: Within 5 days after March 11, 2003 (the effective date of AD 2003-04-06, Amendment 39-13054, which was superseded by AD 2006-22-05), accomplish the requirements of either paragraph (g) or (h) of this AD. After December 1, 2006 (the effective date of AD 2006-22-05), only accomplishing the requirements of paragraph (g) of this AD is acceptable for compliance with this paragraph.

Table 2—INUs Identified in AD 2006-22-05
P/N 7510100-811 through 7510100-814 inclusive.
P/N 7510100-831 through 7510100-834 inclusive.
P/N 7510100-901 through 7510100-904 inclusive.
P/N 7510100-911 through 7510100-914 inclusive.
P/N 7510100-921 through 7510100-924 inclusive.
P/N 7510100-931 through 7510100-934 inclusive.

Inspection To Determine Part Number

(g) For any INU identified in Table 2 of this AD: Perform a one-time general visual inspection of the modification plate for the Honeywell Primus II NV-850 Navigation Receiver Module (NRM); part number 7510134-811, -831, -901, or -931; which is part of the Honeywell Primus II RNZ-850( )/-851( ) INU; to determine if Mod L has been installed. The modification plate is located on the bottom of the Honeywell Primus II RNZ-850( )/-851( ) INU, is labeled NV-850, and contains the part number and serial number for the Honeywell Primus II NV-850 NRM. If Mod T is installed, the letter will be blacked out. The Honeywell service bulletins listed in Table 1 of this AD are acceptable sources of service information for the inspection required by this paragraph.

(1) If Mod L is installed, before further flight, do paragraph (h) or (j) of this AD. After December 1, 2006, only accomplishment of paragraph (j) is acceptable for compliance with this paragraph.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Aircraft Flight Manual (AFM) Revision

(h) For aircraft having an INU identified in Table 2 of this AD: Revise the Limitations section of the AFM to include the following statements (which may be accomplished by inserting a copy of the AD into the AFM):

“FLIGHT LIMITATIONS

When crossing the Outer Marker on glideslope, the altitude must be verified with the value on the published procedure.

For aircraft with a single operating glideslope receiver, the approach may be flown using normal procedures no lower than Localizer Only Minimum Descent Altitude (MDA).

For aircraft with two operating glideslope receivers, the aircraft may be flown to the published minimums for the approach using normal procedures if both glideslope receivers are tuned to the approach and both crew members are monitoring the approach using independent data and displays.”

Parts Installation

(i) For aircraft having an INU identified in Table 2 of this AD: As of March 11, 2003, no person may install a Honeywell Primus II NV-850 NRM on which Mod L has been installed, on the Honeywell Primus II RNZ-850( )/-851( ) INU of any aircraft, unless paragraph (h) or (j) of this AD is accomplished. As of December 1, 2006, only accomplishment of paragraph (j) is acceptable for compliance with this paragraph.

Inspection To Determine Modification Level of NRM

(j) For any INU identified in Table 2 of this AD on which Mod L was found to be installed during the inspection required by paragraph (g) of this AD, or for aircraft on which paragraph (h) of this AD was accomplished: Within 30 months after December 1, 2006, do an inspection of the modification plate on the Honeywell Primus II NV-850 NRM; part number 7510134-811, -831, -901, or -931; which is part of the Honeywell Primus II RNZ-850( )/-851( ) INU; to determine if Mod L, N, P, R, or T is installed. The modification plate located on the bottom of the Honeywell Primus II RNZ-850( )/-851( ) INU is labeled NV-850, and contains the part number and serial number for the Honeywell Primus II NV-850 NRM. If Mod L, N, P, R, or T is installed, the corresponding letter on the modification plate will be blacked out. Honeywell Alert Service Bulletin 7510100-34-A0035, dated July 11, 2003; and Honeywell Service Bulletin 7510100-34-0037, dated July 8, 2004; are acceptable sources of service information for this inspection. If Mod L, N, P, or R is installed (which relates to the glide slope fix), within 30 months after December 1, 2006, do all applicable related investigative, corrective, and other specified actions, in accordance with the Accomplishment Instructions of Honeywell Alert Service Bulletin 7510100-34-A0035, dated July 11, 2003; and if Mod T is not installed (which relates to the localizer fix), within 30 months after December 1, 2006, do all applicable related investigative, corrective, and other specified actions, in accordance with the Accomplishment Instructions of Honeywell Service Bulletin 7510100-34-0037, dated July 8, 2004; to ensure that the NRM is at the Mod T configuration. Once the actions in this paragraph are completed, the AFM revision required by paragraph (h) of this AD may be removed from the AFM.

(k) If the inspection specified in paragraph (j) of this AD is done within the compliance time specified in paragraph (f) of this AD, paragraph (g) of this AD does not need to be done.

New Requirements of This AD

Inspection To Determine Mod Level

(l) For any INU that is not identified in Table 2 of this AD: Within 30 months after the effective date of this AD, perform a one-time general visual inspection of the modification plate for the Honeywell Primus II NV-850 Navigation Receiver Module (NRM); part number 7510134-611, -631, -701, -731, 811, -831, -901, or -931; which is part of the Honeywell Primus II RNZ-850()/-851() INU; to determine whether Mod L, N, P, R, or T is installed. The modification plate located on the bottom of the Honeywell Primus II RNZ-850()/-851() INU is labeled NV-850, and contains the part number and serial number for the Honeywell Primus II NV-850 NRM. If Mod L, N, P, R, or T is installed, the corresponding letter on the modification plate will be blacked out. Honeywell Alert Service Bulletin 7510100-34-A0035, dated July 11, 2003; and Honeywell Service Bulletin 7510100-34-0037, dated July 8, 2004; are acceptable sources of service information for this inspection.

(1) If the NRM is part number 7510134-611, -631, -701, or -731, and has Mod T installed: No further action is required by this paragraph.

(2) If the NRM is part number 7510134-611, -631, -701, or -731, and Mod T is not installed, within 30 months after the effective date of this AD: Do all applicable related investigative, corrective, and other specified actions, in accordance with the accomplishment Instructions of Honeywell Service Bulletin 7510100-34-0037, dated July 8, 2004; to ensure that the NRM is at the Mod T configuration.

(3) If the NRM is part number 7510134-811, -831, -901, or -931: Within 30 months after the effective date of this AD, do all applicable related investigative, corrective, and other specified actions, in accordance with the Accomplishment Instructions of Honeywell Alert Service Bulletin 7510100-34-A0035, dated July 11, 2003; and Honeywell Service Bulletin 7510100-34-0037, dated July 8, 2004; to ensure that the NRM part number has been updated to 7510134-611, -631, -701, -731 configuration and Mod T has been installed.

Parts Installation

(m) As of the effective date of this AD, no person may install a Honeywell Primus II RNZ-850()/-851() INU that contains a NV-850 NRM part number 7510134-811, -831, -901, or -931; or part number 7510134-611, -631, -701, or -731, that does not have Mod T installed, unless paragraph (l) is accomplished.

No Report

(n) Where Honeywell Alert Service Bulletin 7510100-34-A0035, dated July 11, 2003 (or any of the related service information referenced therein), specifies to submit certain information to the manufacturer, this AD does not include that requirement.

Alternative Methods of Compliance (AMOCs)

(o)(1) The Manager, Los Angeles Aircraft Certification Office, FAA, has the authority to approve AMOCs for this AD, if requested using the procedures found in 14 CFR 39.19. Send information to ATTN: Daniel Bui, Aerospace Engineer, Systems and Equipment Branch, ANM-130L, FAA, Los Angeles Aircraft Certification Office, 3960 Paramount Boulevard, Lakewood, California 90712-4137; telephone (562) 627-5339; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(p) You must use the service information contained in Table 3 of this AD, as applicable, to do the actions required by this AD, unless the AD specifies otherwise. (Only the first page of these documents specifies the revision level of the document; no other page contains this information.)

Table 3—All Material Incorporated by Reference
Honeywell— | Revision— | Dated—
Alert Service Bulletin 7510134-34-A0016 | 001 | March 4, 2003.
Alert Service Bulletin 7510134-34-A0017 | Original | July 11, 2003.
Alert Service Bulletin 7510100-34-A0034 | Original | February 28, 2003.
Alert Service Bulletin 7510100-34-A0035 | Original | July 11, 2003.
Service Bulletin 7510100-34-0037 | Original | July 8, 2004.
Service Bulletin 7510134-34-0018 | Original | July 8, 2004.

(1) The Director of the Federal Register approved the incorporation by reference of the service information contained in Table 4 of this AD under 5 U.S.C. 552(a) and 1 CFR part 51.

Table 4—New Material Incorporated by Reference
Honeywell— | Revision— | Dated—
Alert Service Bulletin 7510134-34-A0016 | 001 | March 4, 2003.
Alert Service Bulletin 7510134-34-A0017 | Original | July 11, 2003.
Alert Service Bulletin 7510100-34-A0034 | Original | February 28, 2003.
Service Bulletin 7510134-34-0018 | Original | July 8, 2004.

(2) The Director of the Federal Register previously approved the incorporation by reference of Honeywell Alert Service Bulletin 7510100-34-A0035, dated July 11, 2003; and Honeywell Service Bulletin 7510100-34-0037, dated July 8, 2004; on December 1, 2006 (71 FR 62907, October 27, 2006).

(3) For service information identified in this AD, contact Honeywell Technical Operations Center, 1944 East Sky Harbor Circle, Phoenix, AZ 85034-3442; telephone (US & Canada) 800-601-3099, (International) 602-365-3099; Internet http://www.honeywell.com.

(4) You may review copies of the service information at the Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on March 17, 2010.
Ali Bahrami,
Manager, Transport Airplane Directorate, Aircraft Certification Service.

[FR Doc. 2010-6547 Filed 3-26-10; 8:45 am]

BILLING CODE 4910-13-P